DEPARTMENT OF HOMELAND SECURITY

Coast Guard

[Docket No. USCG-2011-0864]

Certificate of Alternative Compliance for the Research Vessel R/V SIKULIAQ

AGENCY: Coast Guard, DHS.

ACTION: Notice.

SUMMARY: The Coast Guard announces that a Certificate of Alternative Compliance was issued for the research vessel R/V SIKULIAQ as required by 33 U.S.C. 1605(c) and 33 CFR 81.18.

DATES: The Certificate of Alternative Compliance was issued on September 9, 2011, and reissued on March 13, 2012.

ADDRESSES: The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2011-0864 in the “Keyword” box, and then clicking “Search.”

FOR FURTHER INFORMATION CONTACT: If you have questions on this notice, call LCDR Wm. Erik Pickering, District Nine, Prevention Branch, U.S. Coast Guard, telephone 216-902-6050. If you have questions on viewing or submitting material to the docket, call Renee V. Wright, Program Manager, Docket Operations, telephone 202-366-9826.

SUPPLEMENTARY INFORMATION:

Background and Purpose

A Certificate of Alternative Compliance, as allowed for under 33 U.S.C. 1605(c) and 33 CFR 81.18, has been issued for the research vessel R/V SIKULIAQ, O.N. Pending, Marinette Marine Corporation Hull No. MMC 0650. The vessel's primary purpose is to conduct oceanographic research around the world. The unique design of the vessel did not lend itself to full compliance with 33 CFR 84.05(a) of the Coast Guard's Inland Navigation Rules and Annex I (3(a)) of the Convention on the International Regulations for Preventing Collisions at Sea (1972 and 1981) (COLREGS).

The Commandant, U.S. Coast Guard, certifies that full compliance with the applicable Inland Navigation Rules and COLREGS would interfere with the special functions/intent of the vessel and would not significantly enhance the safety of the vessel's operation. Placing the masthead light in the required position would interfere with the vessel's science and boat/davit operations.

The Certificate of Alternative Compliance authorizes the R/V SIKULIAQ to deviate from the requirements set forth in 33 CFR 84.05(a) and COLREGS Annex I (3(a)), and place its aft masthead light 124.7 feet from the forward masthead light, which is less than half of the ship length (130.75 feet).

This notice is issued under authority of 33 U.S.C. 1605(c), and 33 CFR 81.18.

Dated: March 16, 2012.
D.P. Verfaillie,
Captain, U.S. Coast Guard, Chief, Prevention Division, By Direction of the Commander, Ninth Coast Guard District.

[FR Doc. 2012-7338 Filed 3-26-12; 8:45 am]

BILLING CODE 9110-04-P